DEPARTMENT OF TRANSPORTATION

Surface Transportation Board

[STB Finance Docket No. 34036]

The Burlington Northern and Santa Fe Railway Company—Trackage Rights Exemption—Union Pacific Railroad Company

Union Pacific Railroad Company (UP) has agreed to grant overhead trackage rights to The Burlington Northern and Santa Fe Railway Company (BNSF) over UP's rail line on the Black Butte and Valley Subdivisions between Klamath Falls, OR, in the vicinity of UP's milepost 428.7 and Binney Junction (Marysville), CA, in the vicinity of UP's milepost 141.9, a distance of 285 miles. BNSF will operate its own trains with its own crews over UP's line under the trackage rights agreement.¹

¹ On April 24, 2001, BNSF and UP filed a petition for exemption in STB Finance Docket No. 34036 (Sub-No. 1), The Burlington Northern and Santa Fe Railway Company—Trackage Rights Exemption—Union Pacific Railroad Company, wherein BNSF and UP request that the Board permit the proposed overhead trackage rights arrangement described in the present proceeding to expire on August 8, 2001. That petition will be addressed by the Board in a separate decision.

The transaction was scheduled to be consummated on or shortly after May 1, 2001.

The purpose of the trackage rights is to allow BNSF to bridge its train service while BNSF's main line is out of service for maintenance.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34036, must be filed with the Surface Transportation Board, Office of the Secretary, Case Control Unit, 1925 K Street, NW., Washington, DC 20423-0001. In addition, one copy of each pleading must be served on Yolanda Grimes Brown, The Burlington Northern and Santa Fe Railway Company, 2500 Lou Menk Drive, P.O. Box 961039, Fort Worth, TX 76161-0039.

Board decisions and notices are available on our website at “WWW.STB.DOT.GOV.”

Decided: May 2, 2001.
By the Board, David M. Konschnik, Director, Office of Proceedings.
Vernon A. Williams,
Secretary.

[FR Doc. 01-11681 Filed 5-9-01; 8:45 am]

BILLING CODE 4915-00-P